OFFICE OF THE UNITED STATES TRADE REPRESENTATIVE

[Docket No. WTO/DS-239]

WTO Dispute Settlement Proceeding Brought by Brazil Regarding Antidumping Duties Imposed by the United States on Silicon Metal From Brazil

AGENCY: Office of the United States Trade Representative.

ACTION: Notice; correction.

SUMMARY: The Office of the United States Trade Representative (USTR) is providing notice of a correction to the notice published in the Federal Register on November 21, 2001, 66FR 58546, titled “WTO Dispute Settlement Proceeding Brought by Brazil Regarding Antidumping Duties Imposed by the United States on Silicon Metal from Brazil.” In the section of that notice titled “Major Issues Raised by Brazil,” the second sentence of the first paragraph should read, “However, section 351.106(c) of the DOC's regulation, 19 CFR 351.106(c), applies a 0.5 percent de minimis standard in the case of reviews.”

FOR FURTHER INFORMATION CONTACT: Katherine J. Mueller, Assistant General Counsel, Office of the United States Trade Representative, 600 17th Street, NW., Washington, DC, (202) 395-0317.

A. Jane Bradley,
Assistant United States Trade Representative for Monitoring and Enforcement.

[FR Doc. 01-29989 Filed 12-3-01; 8:45 am]

BILLING CODE 3190-01-M